DEPARTMENT OF THE INTERIOR

National Park Service

[NPS-WASO-NAGPRA-21820; PPWOCRADN0-PCU00RP14.R50000]

Notice of Inventory Completion: Tennessee Valley Authority, Knoxville, TN

AGENCY: National Park Service, Interior.

ACTION: Notice.

SUMMARY: The Tennessee Valley Authority (TVA) has completed an inventory of human remains and associated funerary objects in consultation with the appropriate federally recognized Indian tribes, and has determined that a cultural affiliation between the human remains and associated funerary objects and any present-day federally recognized Indian tribes cannot be reasonably traced. Representatives of any federally recognized Indian tribe not identified in this notice that wish to request transfer of control of these human remains and associated funerary objects should submit a written request to TVA. If no additional requestors come forward, transfer of control of the human remains and associated funerary objects to the federally recognized Indian tribe stated in this notice may proceed.

DATES: Representatives of any federally recognized Indian tribe not identified in this notice that wish to request transfer of control of these human remains and associated funerary objects should submit a written request with information in support of the request to TVA at the address in this notice by October 17, 2016.

ADDRESSES: Dr. Thomas O. Maher, TVA, 400 West Summit Hill Drive, WT11D, Knoxville TN 37902-1401, telephone (865) 632-7458, email tomaher@tva.gov.

SUPPLEMENTARY INFORMATION: Notice is here given in accordance with the Native American Graves Protection and Repatriation Act (NAGPRA), 25 U.S.C. 3003, of the completion of an inventory of human remains and associated funerary objects under the control of TVA. The human remains and associated funerary objects were removed from archeological sites in Jackson and Marshall Counties, AL.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by TVA professional staff in consultation with the University of Alabama and representatives of the Alabama-Coushatta Tribe of Texas (previously listed as the Alabama-Coushatta Tribes of Texas); Alabama-Quassarte Tribal Town; Cherokee Nation; Coushatta Tribe of Louisiana; Eastern Band of Cherokee Indians; Eastern Shawnee Tribe of Oklahoma; Poarch Band of Creeks (previously listed as the Poarch Band of Creek Indians of Alabama); The Chickasaw Nation; The Choctaw Nation of Oklahoma; The Muscogee (Creek) Nation; Thlopthlocco Tribal Town; and the United Keetoowah Band of Cherokee Indians in Oklahoma.

History and Description of the Remains

The sites listed in this notice were excavated as part of TVA's Guntersville Reservoir project by the Alabama Museum of Natural History (AMNH) at the University of Alabama, using labor and funds provided by the Works Progress Administration. Details regarding these excavations and sites may be found in a report, An Archaeological Survey of Guntersville Basin on the Tennessee River in Northern Alabama, by William S. Webb and Charles G. Wilder. The human remains and associated funerary objects listed in this notice have been in the physical custody of the AMNH at the University of Alabama since excavation but are under the control of TVA.

From January to April 1939, human remains representing, at minimum, 30 individuals were removed from the Crow Creek Island site, 1JA155, in Jackson County, AL. Excavations commenced after TVA acquired this land on June 30, 1938. Excavations revealed multiple occupations including Middle Woodland (Copena phase), Late Woodland (Flint River phase), and Mississippian (Crow Creek phase). The human remains include adults, juveniles, and infants of both sexes. No known individuals were identified. The 50 associated funerary objects include 48 shell beads, 1 shell ear plug, and 1 ground stone steatite bowl.

From October 1938 to January 1939, human remains representing, at minimum, 44 individuals were removed from the Sublet Ferry site, 1JA102, three miles southeast of Hollywood in Jackson County, AL. Excavation commenced after TVA acquired a permit for archeological exploration on June 11, 1938. This land was subsequently purchased on October 17, 1938. Excavations revealed this to be a shell midden overlying a dark midden soil. Both Woodland and Mississippian occupations were identified. The human remains include adults, juveniles, and children of both sexes. No known individuals were identified. The 27 associated funerary objects include 24 shell barrel beads, 1 Hamilton projectile point, 1 bone pin, and 1 bone awl.

From June 11 to 23, 1938, human remains representing, at minimum, six individuals were removed from the Langston site, 1JA9, in Jackson County, AL. Excavation commenced after TVA had purchased the land encompassing it on December 30, 1936. The site, eight miles southeast of Scottsboro, AL, was composed of a mound (designated 1JA9a) and a village. These brief excavations focused on the low mound. Artifacts from the mound and surrounding village indicate both a Woodland and Mississippian occupation. The human remains include adults, juveniles, and an infant of indeterminate sex. No known individuals were identified. The 22 associated funerary objects are fragments of a copper ornament associated with one of these individuals.

From November 21 to 29, 1938, human remains representing, at minimum, two individuals were removed from site 1MS106, 11 miles northeast of the city of Guntersville in Marshall County, AL. Excavation commenced after TVA purchased the land on April 21, 1937. Little is known about this site except a one paragraph reference to the excavation in a progress report which indicates it was a rapid exploration that recovered three burials. Further, ceramics from this site indicate occupations during both the Woodland and Mississippian periods. The culturally unidentifiable human remains are of two adult males. No known individuals were identified. No associated funerary objects are present.

From December 10, 1936, to February 2, 1937, human remains representing, at minimum, four individuals were removed from the Cartright site, 1MS109, 11 miles northeast of the city of Guntersville in Marshall County, AL. Excavation commenced shortly before TVA purchased the land on April 21, 1937. Evidence at the surface indicated that this site was 50 x 60 feet with four underlying strata. Ceramics from this site indicate occupations during both the Woodland and Mississippian periods. The human remains are of one child of indeterminate sex and three adults, two of which are female. No known individuals were identified. No associated funerary objects are present.

From October 25 to December 7, 1938, human remains representing, at minimum, four individuals were removed from the Stephenson site, 1MS111, 11 miles northeast of the city of Guntersville in Marshall County, AL. Excavation commenced after TVA purchased the land on April 21, 1937. Limited excavation in the village area revealed three underlying strata. Steatite stone vessel sherds in the lowest strata indicate a Late Archaic occupation. Further, ceramics from the upper strata of this site indicate occupations during both the Late Woodland and Mississippian periods. The human remains are of one child of indeterminate sex and three adults, two of which are female. No known individuals were identified. No associated funerary objects are present.

From June 1938 to May 1939, human remains representing, at minimum, 261 individuals were removed from the Columbus City Landing site, 1MS91, 9 miles northeast of the city of Guntersville in Marshall County, AL. Excavation commenced after TVA purchased the land on March 8, 1937. There were excavations in both the village (Unit I) and adjacent mounds (Unit II). Artifacts recovered from this excavation revealed that the primary occupations were during the Middle Woodland (A.D. 100-500), Mississippian (A.D. 1200-1500), and historic periods. The human remains include adults, juveniles, children, and infants of both sexes. No known individuals were identified. The 214 associated funerary objects include 7 glass beads; 1 biface; 4 bone bodkins; 3 bone pins; 2 copper bangles; 1 Hilabee Schist celt; 15 pieces of clay (unfired); 4 clay foot rests; 2 clay head rests; 1 copper axe head; 2 copper coil earbobs; 7 copper ear spools; 2 copper reel gorgets; 51 galena nodules; 1 ground hematite; 62 Long Branch Fabric Marked sherds; 1 Mississippi Plain sherd disk fragment; 1 Mud Creek projectile point or knife; 24 Mulberry Creek Plain sherds; 2 projectile points or knives; 1 red ochre; 6 rolled copper tubular beads; 2 shell beads; 2 shell ear bobs; 1 shell gorget; 3 tempered clay samples; 1 wood fragment; 1 shell fragment; 2 unmodified hematite fragments; 1 yellow clay sample and 1 yellow pigment.

TVA determined that cultural affiliation between human remains and associated funerary objects and any present day federally recognized tribes cannot be reasonably traced. Accordingly, these items are culturally unidentifiable and TVA intends to transfer control of these items pursuant to 43 CFR 10.11(c).

At the time of the excavation and removal of these human remains and associated funerary objects, the land from which the remains and objects were removed was not the tribal land of any federally recognized Indian tribe. On March 10, 2016, TVA consulted with all federally recognized Indian tribes who are recognized as aboriginal to the area from which these Native American human remains and associated funerary objects were removed. These tribes are the Cherokee Nation, Eastern Band of Cherokee Indians, and United Keetoowah Band of Cherokee Indians in Oklahoma. None of these Indian tribes agreed to accept control of the human remains and associated funerary objects. After further consultation with the parties that were a part of this overall consultation, TVA has decided to transfer control of the human remains and associated funerary objects to the Alabama-Coushatta Tribe of Texas, the Alabama-Quassarte Tribal Town, the Coushatta Tribe of Louisiana, and the Muscogee (Creek) Nation.

Determinations Made by the Tennessee Valley Authority

Officials of TVA have determined that:

• Pursuant to 25 U.S.C. 3001(9), the human remains described in this notice represent the physical remains of 351 individuals of Native American ancestry.

• Pursuant to 25 U.S.C. 3001(3)(A), the 313 objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• Pursuant to 43 CFR 10.11(c)(1)(i), at the time of excavation of the human remains and associated funerary objects, the land from which the cultural items were removed was not the tribal land of any federally recognized Indian tribe.

• Pursuant to 43 CFR 10.11(c)(1)(ii), the following tribes are aboriginal to the area from which the cultural items were excavated: Cherokee Nation, Eastern Band of Cherokee Indians, and the United Keetoowah Band of Cherokee Indians in Oklahoma. None of these tribes agreed to accept control of the human remains or associated funerary objects.

• Pursuant to 43 CFR 10.11(c)(2)(i), TVA has decided to transfer control of the culturally unidentifiable human remains to the Alabama-Coushatta Tribe of Texas, the Alabama-Quassarte Tribal Town, the Coushatta Tribe of Louisiana, and the Muscogee (Creek) Nation.

• Pursuant to 43 CFR 10.11(c)(4), TVA has decided to transfer control of the culturally unidentifiable associated funerary objects to the Alabama-Coushatta Tribe of Texas, the Alabama-Quassarte Tribal Town, the Coushatta Tribe of Louisiana, and the Muscogee (Creek) Nation.

Additional Requestors and Disposition

Representatives of any federally recognized Indian tribe not identified in this notice that wish to request transfer of control of these human remains and associated funerary objects should submit a written request with information in support of the request to Dr. Thomas O. Maher, TVA, 400 West Summit Hill Drive, WT11D, Knoxville, TN 37902-1401, telephone (865) 632-7458, email tomaher@tva.gov, by October 17, 2016. After that date, if no additional requestors have come forward, transfer of control of the human remains and associated funerary objects to the Alabama-Coushatta Tribe of Texas, the Alabama-Quassarte Tribal Town, the Coushatta Tribe of Louisiana, and the Muscogee (Creek) Nation may proceed.

TVA is responsible for notifying the Alabama-Coushatta Tribe of Texas (previously listed as the Alabama-Coushatta Tribes of Texas); Alabama-Quassarte Tribal Town; Cherokee Nation; Coushatta Tribe of Louisiana; Eastern Band of Cherokee Indians; Eastern Shawnee Tribe of Oklahoma; Poarch Band of Creeks (previously listed as the Poarch Band of Creek Indians of Alabama); The Chickasaw Nation; The Choctaw Nation of Oklahoma; The Muscogee (Creek) Nation; Thlopthlocco Tribal Town; and the United Keetoowah Band of Cherokee Indians in Oklahoma that this notice has been published.

Dated: August 23, 2016.
Melanie O'Brien,
Manager, National NAGPRA Program.

[FR Doc. 2016-22315 Filed 9-15-16; 8:45 am]

BILLING CODE 4312-50-P